DEPARTMENT OF AGRICULTURE

Farm Service Agency

Information Collection Request; Power of Attorney

AGENCY: Farm Service Agency, USDA.

ACTION: Notice; request for comments.

SUMMARY: In accordance with the Paperwork Reduction Act of 1995, the Farm Service Agency (FSA) is requesting comments from all interested individuals and organizations on an extension of a currently approved information collection associated with the Power of Attorney form. This information collection is used to support the FSA, Commodity Credit Corporation (CCC), Natural Resources Conservation Service (NRCS), Federal Crop Insurance Corporation (FCIC) and Risk Management Agency (RMA) in conducting business and accepting signatures on certain documents from individuals acting on behalf of other individuals or entities.

DATES: We will consider comments that we receive by April 3, 2017.

ADDRESSES: We invite you to submit comments on this notice. In your comments, include date, volume, and page number of this issue of the Federal Register. You may submit comments by any of the following methods:

• Federal eRulemaking Portal: Go to http://regulations.gov. Follow the online instructions for submitting comments.

• Mail: Joe Lewis Jr., Agricultural Program Specialist, USDA, FSA, STOP 0572, 1400 Independence Avenue SW., Washington, DC 20250-0572.

You may also send comments to the Desk Officer for Agriculture, Office of Information and Regulatory Affairs, Office of Management and Budget, Washington, DC 20503. Copies of the information collection may be requested by contacting Joe Lewis Jr. at the above addresses.

FOR FURTHER INFORMATION CONTACT: Joe Lewis Jr., (202) 720-0795.

SUPPLEMENTARY INFORMATION:

Title: Power of Attorney.

OMB Control Number: 0560-0190.

Expiration Date of Approval: May 31, 2017.

Type of Request: Extension.

Abstract: Individuals or entities that want to appoint another to act as an attorney-in-fact in connection with certain FSA, CCC, NRCS, FCIC, and RMA programs and related actions must complete a form FSA-211, Power of Attorney form. The form is used by a grantor to appoint another to act on the individual's or entity's behalf for certain FSA, CCC, NRCS, FCIC and RMA programs or other specific actions, giving the appointee legal authority to enter into certain programs, agreements, or contracts, or other specific actions on the grantor's behalf. The form also provides FSA, CCC, NRCS, FCIC and RMA a source to verify an individual's authority to sign and act for another in the event of errors or fraud. The information collected on the form is limited to grantor's name, signature and identification number, the grantee's address, and the applicable FSA, CCC, NRCS, FCIC and RMA programs or transactions.

For the following estimated total annual burden on respondents, the formula used to calculate the total burden hours is the estimated average time per responses multiplied by the estimated total annual of responses.

Estimate of Average Time To Respond: Public reporting burden for collecting information under this notice is estimated to average 1.25 minutes per response, including the time for reviewing instructions, searching existing data sources, gathering and maintaining the data needed, and completing and reviewing the collection of information. The average travel time, which is included in the total annual burden, is estimated to be 1 hour per respondent.

Type of Respondents: Individuals and households.

Estimated Number of Respondents: 51,385.

Estimated Average Number of Responses per Respondent: 1.

Estimated Total Annual Responses: 51,385.

Estimated Average Time per Response: 1.25.

Estimated Total Annual Burden on Respondents: 64,256 hours.

We are requesting comments on all aspects of this information collection to help us to:

(1) Evaluate whether the proposed collection of information is necessary for the proper performance of the functions of the agency, including whether the information will have practical utility;

(2) Evaluate the accuracy of the agency's estimate of burden of the collection of information including the validity of the methodology and assumptions used;

(3) Evaluate the quality, utility and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval.

Chris P. Beyerhelm,
Acting Administrator, Farm Service Agency.

[FR Doc. 2017-02128 Filed 1-31-17; 8:45 am]

BILLING CODE 3410-05-P